NUCLEAR REGULATORY COMMISSION

[Docket No. 50-483]

Union Electric Company; Notice of Withdrawal of Application for Amendment to Facility Operating License

The U.S. Nuclear Regulatory Commission (the Commission/NRC) has granted the request of Union Electric Company (the licensee) to withdraw its application dated July 19, 2006, for the proposed exigent amendment to Facility Operating License No. NPF-30 for the Callaway Plant, Unit 1,located in Callaway County, Missouri.

By letter dated July 19, 2006, Union Electric Company (the licensee) submitted an exigent license amendment request to remove the containment condensate monitoring system and atmosphere gaseous radioactivity monitor from Technical Specification (TS) 3.4.15, “RCS [reactor coolant system] Leakage Detection Instrumentation.” The licensee stated that it was uncertain that the containment cooler condensate system could detect an RCS leak rate of 1 gallon per minute in 1 hour, which is the requirement for the instrumentation listed in TS 3.4.15 to be considered operable, and the condensate monitoring system was declared inoperable on July 10, 2006. With the containment atmosphere gaseous radioactivity monitor already declared inoperable and the condensate monitoring system now being inoperable, TS 3.4.15 required the licensee to shut down the Callaway Plant within 30 days of July 10, 2006, if the condensate monitoring could not be made operable. The exigent amendment request was to prevent a plant shutdown. The licensee also stated that the previous application dated August 26, 2005, as supplemented by letters dated December 16, 2005, and June 29, 2006, to revise TS 3.4.15 were superceded by the letter dated July 19, 2006.

The Commission had previously issued a Notice of Consideration of Issuance of Amendment published in the Federal Register on July 25, 2006 (71 FR 42134). However, by letter dated August 7, 2006, the licensee withdrew its exigent license amendment request dated July 19, 2006, and re-instated the previous application dated August 26, 2005, and the supplemental letters. The licensee declared the containment condensate monitoring system operable on August 3, 2006, and TS 3.4.15 no longer required a plant shutdown.

For further details with respect to this action, see the application for amendment dated July 19, 2006, and the licensee's letter dated August 7, 2006, which withdrew the application for license amendment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index/html. If you do not have access to ADAMS or if there are problems in accessing the documents located in ADAMS, contact the NRC Public Document Room (PDR) Reference staff at 1-800-397-4209, 301-415-4737 or by e-mail to pdr@nrc.gov.

Dated at Rockville, Maryland, this 15th day of August 2006.
For the Nuclear Regulatory Commission.
Jack N. Donohew,
Senior Project Manager, Plant Licensing Branch IV, Division of Operating Reactor Licensing, Office of Nuclear Reactor Regulation.

[FR Doc. E6-13836 Filed 8-21-06; 8:45 am]

BILLING CODE 7590-01-P